DEPARTMENT OF HEALTH AND HUMAN SERVICES

Administration for Children and Families

Submission for OMB Review; Comment Request

Title: Tribal Temporary Assistance for Needy Families (TANF) Quarterly Financial Report, ACF-196TT.

OMB No.: New Collection.

Description: The Tribal TANF Quarterly Financial Report provides specific data regarding expenditures and provides a mechanism for Tribes to request grant awards and certify the availability of State matching funds. Failure to collect this data would seriously compromise the Administration for Children and Families' (ACF) ability to monitor expenditures. This information is also used to estimate outlays and may be used to prepare ACF budget submissions to Congress. The following citation should be noted in regard to this collection: 45 CFR 286.255.

Respondents: Tribal TANF Agencies.

Annual Burden Estimates
Instrument | Number of respondents | Number of responses per respondent | Average burden hours per response | Total burden hours
ACF-196TT | 20 | 4 | 2 | 160

Estimated Total Annual Burden Hours: 160.

Additional Information: Copies of the proposed collection may be obtained by writing to the Administration for Children and Families, Office of Administration, Office of Information Services, 370 L'Enfant Promenade, SW., Washington, DC 20447, Attn: ACF Reports Clearance Officer. E-mail address: rsargis@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, E-mail address: lauren_wittenberg@omb.eop.gov.

Dated: July 7, 2003.
Robert Sargis,
Reports Clearance Officer.

[FR Doc. 03-17529 Filed 7-10-03; 8:45 am]

BILLING CODE 4184-01-M